DEPARTMENT OF HOMELAND SECURITY

6 CFR Part 27

[DHS-2007-0025]

Notice to Facilities to Begin Registration for Chemical Security Assessment Tool

AGENCY: Department of Homeland Security.

ACTION: Notice.

SUMMARY: The Department of Homeland Security (DHS or Department) recommends that chemical facilities begin the registration process to gain access to the Chemical Security Assessment Tool (CSAT) system. This is a voluntary registration process for facilities that think they may be covered by DHS's Chemical Facility Anti-Terrorism Standards located in 6 CFR Part 27 and that would like to initiate the process to determine whether or not they are covered by 6 CFR Part 27.

DATES: Effective April 25, 2007.

FOR FURTHER INFORMATION CONTACT: Matthew Bettridge, Chemical Security Regulatory Task Force, Department of Homeland Security, 703-235-5263.

SUPPLEMENTARY INFORMATION: Section 550 of the Homeland Security Appropriations Act of 2007 provided the Department of Homeland Security (DHS or Department) with authority to promulgate “interim final regulations” for the security of certain chemical facilities in the United States. See Pub. L. 109-295, sec. 550. On December 28, 2006, the Department issued an Advance Notice of Rulemaking seeking comment on the significant issues and regulatory text (see 71 FR 78276), and on April 9, 2007, the Department published an Interim Final Rule establishing anti-terrorism standards for chemical facilities (see 72 FR 17688). The Interim Final Rule is effective June 8, 2007.

Although the Interim Final Rule does not go into effect until June, DHS strongly recommends that facilities begin the registration process as soon as possible to gain access to the Chemical Security Assessment Tool (CSAT) system. The CSAT is a suite of four applications, including the User Registration, Top-Screen, Security Vulnerability Assessment, and Site Security Plan, through which the Department will collect and analyze key data from chemical facilities. Facilities will submit information to DHS through an on-line, web-based component of the CSAT system. CSAT user registration is the first step in the process of determining whether or not facilities are covered by the Interim Final Rule.

In the course of the CSAT user registration process, facilities will provide basic information to DHS (e.g., the name, contact information, and mailing address for the submitter), and DHS will, in turn, provide each approved CSAT user with a user identification and password, so that they can access the CSAT system. DHS will provide approved users with user identifications and passwords in the weeks just before the interim final rule becomes effective (i.e., June 8, 2007).

By beginning and encouraging early user registration, DHS believes that it will facilitate the efficient roll-out of the Interim Final Rule. The registration process can take some time, as there are several parts involved: Potential users must complete an online form, DHS must create an account, and potential users must then sign the user registration form and return it to DHS. Facilities who have registered early will have completed this process and will be able to begin completing the Top-Screen as soon as the rule goes into effect.

Until the effective date of the rule, this is a voluntary registration process for facilities that think they may be covered by DHS's Chemical Facility Anti-Terrorism Standards located in 6 CFR Part 27 and that would like to initiate the process to determine whether or not they are covered by 6 CFR Part 27. By registering with DHS, facilities will obtain access to the CSAT system, so that they can obtain a user registration and password, complete the Top-Screen, etc. Note that this Federal Register Notice is not notice under 6 CFR 27.200(b) that DHS is seeking information from certain chemical facilities. This notice does not impose any obligation or requirement on any party. Instead, it simply provides written notice of the Web site available for parties voluntarily choosing to access the CSAT system.

To begin the CSAT registration process, facilities should go to http://www.DHS.gov/chemicalsecurity and follow the instructions for gaining access to the CSAT system. DHS has activated this CSAT Web page concurrent with its publication of the interim final rule on April 9, 2007. In addition, DHS notes that it has established a help desk for CSAT users. The phone number for the help desk is located on the CSAT Web page.

Robert B. Stephan,
Assistant Secretary for Infrastructure Protection, Department of Homeland Security.

[FR Doc. E7-7923 Filed 4-24-07; 8:45 am]

BILLING CODE 4410-10-P